COMMISSION ON CIVIL RIGHTS

Notice of Public Meeting of the Illinois Advisory Committee for a Meeting To Hear Testimony Regarding Hate Crimes in Illinois

AGENCY: U.S. Commission on Civil Rights.

ACTION: Notice of meeting.

SUMMARY: Notice is hereby given, pursuant to the provisions of the rules and regulations of the U.S. Commission on Civil Rights (Commission) and the Federal Advisory Committee Act that the Illinois Advisory Committee (Committee) will hold a meeting on Thursday, August 21, 2014, for the purpose of hearing presenters testify about hate crimes in Illinois.

Members of the public are invited and welcomed to make statements into the record at the meeting starting at 3:15 p.m. Members of the public are also entitled to submit written comments; the comments must be received in the regional office by September 21, 2014. Written comments may be mailed to the Midwestern Regional Office, U.S. Commission on Civil Rights, 55 W. Monroe St., Suite 410, Chicago, IL 60615. They may also be faxed to the Commission at (312) 353-8311, or emailed to Administrative Assistant, Carolyn Allen at callen@usccr.gov. Persons who desire additional information may contact the Midwestern Regional Office at (312) 353-8311.

Hearing-impaired persons who will attend the meeting and require the services of a sign language interpreter should contact the Midwestern Regional Office at least ten (10) working days before the scheduled date of the meeting.

Records generated from this meeting may be inspected and reproduced at the Midwestern Regional Office, as they become available, both before and after the meeting. Records of the meeting will be available via www.facadatabase.gov under the Commission on Civil Rights, Illinois Advisory Committee link. Persons interested in the work of this Committee are directed to the Commission's Web site, http://www.usccr.gov, or may contact the Midwestern Regional Office at the above email or street address.

Agenda

8:30-8:45 Introduction

8:45-10:00 Panel 1—Data Discrepancy

• Why does the FBI data collected for Illinois between 2008 and 2011 not match the State data covering the same period? Has this problem been resolved?

• What are federal policy recommendations?

10:00-10:15 Break

10:15-11:30 Panel 2—Data Deficit

• NGO research shows the underreporting of hate crimes. Why is this and what can be done to improve data accuracy?

• Is there a federal role in helping to improve accuracy?

11:30-11:45 Break

11:45-1:00 Panel 3—Trend Analysis

• How has the available data changed over time in distribution of crimes by demographic category?

• How has the available data changed over time in distribution of crimes by location?

• Does the available data show increases or decreases in overall crimes in Illinois?

1:00-2:00 Lunch Break

2:00-3:15 Panel 4—Special concerns presented by religiously-motivated hate crimes and discrimination against religious institutions

• Is federal RLUIPA adequately protecting these places of worship?

• What legal tools are currently available to vulnerable communities?

3:15 Open Session

4:00 Adjournment

DATES: The meeting will be held on Thursday, August 21, 2014, at 8:30 a.m.

ADDRESSES: The meeting will be held at the Metcalfe Federal Building, Room 331, 77 W. Jackson Blvd., Chicago, IL 60604.

Dated August 4, 2014.
David Mussatt, Chief,
Regional Programs Unit.

[FR Doc. 2014-18695 Filed 8-6-14; 8:45 am]

BILLING CODE 6335-01-P